DEPARTMENT OF ENERGY

Energy Efficiency and Renewable Energy

Biomass Research and Development Technical Advisory Committee

AGENCY: Energy Efficiency and Renewable Energy, Department of Energy.

ACTION: Notice of Open Meeting.

SUMMARY: This notice announces an open meeting of the Biomass Research and Development Technical Advisory Committee. The Federal Advisory Committee Act (Pub. L. 92-463, 86 Stat. 770) requires that agencies publish these notices in the Federal Register.

DATES: May 19, 2011, 9 a.m.-2:15 p.m.; May 20, 2011, 8:30 a.m.-12 p.m.

ADDRESSES: Crystal City Marriott, 1999 Jefferson Davis Highway, Arlington, Virginia 22202.

FOR FURTHER INFORMATION CONTACT: Laura McCann, Designated Federal Officer, Office of Energy Efficiency and Renewable Energy, U.S. Department of Energy, 1000 Independence Avenue, SW., Washington, DC 20585; Telephone: (202) 586-7766; E-mail: laura.mccann@ee.doe.gov.

SUPPLEMENTARY INFORMATION: Purpose of Committee: To provide advice and guidance that promotes research and development leading to the production of biobased fuels and biobased products.

Tentative Agenda: Agenda will include the following:

• Update on USDA Biomass R&D Activities

• Update on DOE Biomass R&D Activities

• Presentation from EPA on Renewable Fuel Standards

• Panel on Catalyst-based Conversation Technologies

• Presentation on DOE and USDA Loan Guarantee Programs

Public Participation: The Committee welcomes the attendance of the public at its advisory committee meetings. Individuals who wish to make oral statements regarding any of the items on the agenda should contact Laura McCann at the telephone number or email listed above. Requests must be received at least five business days prior to the meeting and reasonable provision will be made to include the presentation on the agenda. If you would like to file a written statement with the Committee, you may do so either before or after the meeting. Members of the public will be heard in the order in which they sign up at the beginning of the meeting. The Chair is empowered to conduct the meeting in a fashion that will facilitate the orderly conduct of business.

Minutes: The minutes of the meeting will be available for public review and copying at the following Web site: http://biomassboard.gov/committee/meetings.html.

Issued at Washington, DC on April 14, 2011.
LaTanya R. Butler,
Acting Deputy Committee Management Officer.

[FR Doc. 2011-9564 Filed 4-19-11; 8:45 am]

BILLING CODE 6450-01-P